INTERNATIONAL TRADE COMMISSION

[Inv. No. 337-TA-508]

Certain Absorbent Garments; Notice of A Commission Determination Not To Review an Initial Determination Granting a Motion To Amend the Complaint and Notice of Investigation

AGENCY: U.S. International Trade Commission.

ACTION: Notice.

SUMMARY: Notice is hereby given that the U.S. International Trade Commission has determined not to review the presiding administrative law judge's (“ALJ”) initial determination (“ID”) granting complainants' motion to amend the complaint and notice of investigation in the above-captioned investigation to add ABS Bienes de Capital S.A. de C.V. as a respondent to this investigation.

FOR FURTHER INFORMATION CONTACT: Timothy P. Monaghan, Esq., Office of the General Counsel, U.S. International Trade Commission, 500 E Street, SW., Washington, DC 20436, telephone 202-205-3152. Copies of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this patent-based section 337 investigation on May 7, 2004, based on a complaint filed by Tyco Healthcare Retail Group, Inc. and Paragon Trade Brands, Inc. of King of Prussia, Pennsylvania. 69 FR 25609. The respondents named in the investigation are Grupo ABS Internacional, S.A. de C.V. and Absormex S.A. de C.V. of Mexico, and Absormex USA, Inc. of Laredo, Texas. The complaint alleged that respondents violated section 337 of the Tariff Act of 1930 by importing into the United States, selling for importation, and/or selling within the United States after importation certain absorbent garments by reason of infringement of certain claims of U.S. Patent Nos. 5,275,590; 5,403,301; and 4,892,528.

On June 16, 2004, complainants filed a motion for leave to amend their complaint to add ABS Bienes de Capital S.A. de C.V. as a respondent to the investigation.

On June 22, 2004, the ALJ issued an ID (Order No. 4) granting complainants' unopposed motion to amend the complaint and notice of investigation.

No petitions for review of the ID were filed.

The authority for the Commission's action is contained in section 337 of the Tariff Act of 1930, as amended (19 U.S.C. 1337) and in section 210.42 of the Commission's Rules of Practice and Procedure (19 CFR 210.42).

Issued: July 12, 2004.
By order of the Commission.
Marilyn R. Abbott,
Secretary to the Commission.

[FR Doc. 04-16528 Filed 7-20-04; 8:45 am]

BILLING CODE 7020-02-P